SECURITIES AND EXCHANGE COMMISSION

17 CFR Part 200

[Release No. 34-44626]

Delegation of Authority to the Director of the Division of Market Regulation

AGENCY: Securities and Exchange Commission

ACTION: Final rule.

SUMMARY: The Securities and Exchange Commission is amending its rules to delegate to the Director of the Division of Market Regulation authority to extend deadlines for submission of comments to applications for registration as a national securities exchange filed under Section 6 of the Exchange Act of 1934, applications for exemption from registration based on limited volume filed under Section 6 of the Exchange Act, and amendments to such applications. This delegation will facilitate and expedite the process of exchange registration and exemption from registration based on limited volume.

EFFECTIVE DATE: August 6, 2001.

FOR FURTHER INFORMATION CONTACT: Rebekah Liu, Special Counsel, at (202) 942-0133; Division of Market Regulation, Securities and Exchange Commission, 450 Fifth Street, NW., Washington, DC. 20549-1001.

SUPPLEMENTARY INFORMATION: The Securities and Exchange Commission (“Commission”) has adopted an amendment to Rule 30-3 of its Rules of Organization and Program Management governing Delegations of Authority to the Director of the Division of Market Regulation (“Director”).¹ The amendment adds new subparagraph (iii) to paragraph (a)(73) of Rule 30-3 authorizing the Director to extend deadlines for submission of comments to (a) applications for registration as a national securities exchange filed under Section 6 of the Exchange Act of 1934 (“Exchange Act”),² (b) applications for an exemption from registration based on limited volume filed under Section 6 of the Exchange Act, and (c) amendments to such applications.

¹ 17 CFR 200.30-3.

² 15 U.S.C. 78f.

The delegation of authority to the Director to extend deadlines for submission of comments is intended to conserve Commission resources by permitting Division staff to extend the deadline for submission of comments to such applications and amendments to such applications. The Division has received several applications for registration as a national securities exchange that must be published for comment. The Division anticipates that, when an application for registration as a national securities exchange or exemption from registration based on limited volume is filed and published for comment, there will be significant comment on the application. Granting the Division delegated authority to extend deadlines for submission of comments to applications and amendments to such applications filed pursuant to Section 6 of the Exchange Act will provide the Division with greater flexibility to respond to commenters' requests, and may expedite the process of publishing amendments to the Form 1. Nevertheless, the staff may submit matters to the Commission for consideration as it deems appropriate.

The Commission finds, in accordance with Section 553(b)(3)(A) of the Administrative Procedure Act,³ that this amendment relates solely to agency organization, procedure, or practice, and does not relate to a substantive rule. Accordingly, notice, opportunity for public comment, and publication of the amendment prior to its effective date are unnecessary.

³ 5 U.S.C. 553(b)(A).

List of Subjects in 17 CFR Part 200

Administrative practice and procedure, Authority delegations (Government agencies), Organization and functions (Government agencies).

Text of Amendment

In accordance with the preamble, the Commission hereby amends Title 17, Chapter II of the Code of Federal Regulations as follows:

PART 200—ORGANIZATION; CONDUCT AND ETHICS; AND INFORMATION AND REQUESTS

Subpart A—Organization and Program Management

1. The authority citation for Part 200, Subpart A, continues to read, in part, as follows:

Authority: 15 U.S.C. 77s, 78d-1, 78d-2, 78w, 78ll(d), 78mm, 79t, 77sss, 80a-37, 80b-11, unless otherwise noted.

* * * * *

2. Section 200.30-3, paragraph (a)(73), is amended by removing the word “and” at the end of paragraph (a)(73)(i); removing the period at the end of paragraph (a)(73)(ii) and adding;“ and”; and adding paragraph (a)(73)(iii) to read as follows:

§ 200.30-3 Delegation of authority to Director of Division of Market Regulation.

* * * * *

(a)* * *

(73) Pursuant to section 6(a) of the Act, 15 U.S.C. 78f(a), and Rule 6a-1 thereunder, 17 CFR 240.6a-1:

* * * * *

(iii) To extend deadlines for submission of comments to an application for registration as a national securities exchange, or for exemption from registration based on limited volume; and amendments to an application for registration as a national securities exchange, or for exemption from registration based on limited volume.

By the Commission.
Dated: July 31, 2001.
Margaret H. McFarland,
Deputy Secretary.

[FR Doc. 01-19521 Filed 8-3-01; 8:45 am]

BILLING CODE 8010-01-P